NATIONAL COMMISSION ON TERRORIST ATTACKS UPON THE UNITED STATES

Public Hearing

ACTION: Notice of public hearing.

SUMMARY: The National Commission on Terrorist Attacks Upon the United States (9-11 Commission) will hold its third public hearing on July 9, 2003 in Washington, DC on “Terrorism, Al Qaeda, and the Muslim World.” The Commission will hear testimony from experts on the character of the transnational terrorist threat, the relationships of Arab states to these groups, and the phenomenon of violent extremism within the Muslim community.

DATES: July 9, 2003 from 9 a.m. to 4 p.m. Press availability to follow.

LOCATION: Russell Senate Office Building, Room 253, Washington, DC.

FOR FURTHER INFORMATION CONTACT: Al Felzenberg, (202) 401-1725 or (202) 236-4878 (cellular).

SUPPLEMENTARY INFORMATION: Please refer to the Commission's Web site: www.9-11commission.gov.

Dated: July 1, 2003.
Philip Zelikow,
Executive Director.

[FR Doc. 03-17157 Filed 7-3-03; 8:45 am]

BILLING CODE 8800-01-M